DEPARTMENT OF LABOR

Employment and Training Administration

[TA-W-58,704]

Brunswick Bowling & Billiards Corp.; a Subsidiary of Brunswick Corporation Including On-Site Leased Workers of Staffing Alliance, Time Services, Manpower and Robert Half Management Resources; Muskegon, MI; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on February 6, 2006, applicable to workers of Brunswick Bowling & Billiards Corp., a subsidiary of Brunswick Corporation, including leased workers of Staffing Alliance, Muskegon, Michigan. The notice was published in the Federal Register on March 2, 2006 (71 FR 10716).

At the request of the petitioners, the Department reviewed the certification for workers of the subject firm. The workers are engaged in the production of bowling balls.

New information shows that leased workers of Time Services, Manpower and Robert Half Management Resources were employed on-site at the Muskegon, Michigan location of Brunswick Bowling & Billiards Corp., a subsidiary of Brunswick Corporation.

Based on these findings, the Department is amending this certification to include leased workers of Time Services, Manpower and Robert Half Management Resources working on-site at Brunswick Bowling & Billiards Corp., a subsidiary of Brunswick Corporation, Muskegon, Michigan.

The intent of the Department's certification is to include all workers employed at Brunswick Bowling & Billiards Corp., a subsidiary of Brunswick Corporation, Muskegon, Michigan who was adversely affected by a shift in production to Mexico.

The amended notice applicable to TA-W-58,704 is hereby issued as follows:

All workers of Brunswick Bowling & Billiards Corp., a subsidiary of Brunswick Corporation, including on-site leased workers of Staffing Alliance, Time Services, Manpower and Robert Half Management Resources, Muskegon, Michigan, who became totally or partially separated from employment on or after January 23, 2005, through February 6, 2008, are eligible to apply for adjustment assistance under Section 223 of the Trade Act of 1974, and are also eligible to apply for alternative trade adjustment assistance under Section 246 of the Trade Act of 1974.

Signed at Washington, DC, this 28th day of June, 2006.
Richard Church,
Certifying Officer, Division of Trade Adjustment Assistance.

[FR Doc. E6-11217 Filed 7-14-06; 8:45 am]

BILLING CODE 4510-30-P